DEPARTMENT OF COMMERCE

Economic Development Administration

Submission for OMB Approval; Comment Request; Proposal and Application for Federal Assistance, and Civil Rights Guidelines

ACTION: Extension of a currently approved collection, comment request.

The Department of Commerce (DoC) has submitted to the Office of Management and Budget (OMB) for clearance the following proposal for collection of information under provisions of the Paperwork Reduction Act (44 U.S.C. Chapter 35).

AGENCY: Economic Development Administration (EDA).

Title: Proposal for Federal Assistance, Application for Federal Assistance and Civil Rights Guidelines.

Agency Form Number: ED-900P and ED-900A.

OMB Approval Number: 0610-0094.

Type of Request: Extension of a currently approved collection.

Burden: 48,700 hours (9,900 for ED-900P and 38,800 for ED-900A).

Average Hours Per Response: ED-900P Proposal for Federal Assistance—9 hours, ED-900A-Application for Federal Assistance and Civil Rights Guidelines—48.5 hours.

Number of Respondents: Approximately 1,900 respondents.

Needs and Uses: The Economic Development Administration (EDA) provides investments that will help our partners across the nation (states, regions and communities) create wealth and minimize poverty by promoting a favorable business environment to attract private capital investment and high skill, high wage jobs through world-class capacity building, infrastructure, business assistance, research grants and strategic initiatives. The information in the application is needed to determine conformance to statutory and regulatory requirements, the quality of the scope of work proposed to address the pressing needs and other economic problem(s) of the area, the merits of the activity for which funding is requested and the ability of the prospective applicants to carry out the proposed activities successfully. Those interested in obtaining a grant are to first submit a preapplication and then be invited to submit an application. The Civil Rights Guidelines are required by the Department of Justice Regulations at 28 CFR 42.404, which directs Federal agencies to publish (Title VI of the Civil Rights Act of 1964, as amended) guidelines for each type of program to which they extend financial assistance, where such guidelines would be appropriate to provide detailed information of the requirements of Title VI of the Civil Rights Act of 1964. To responsibly administer its programs, EDA must obtain certain data on the jobs to be created and saved, by those that apply for and receive its assistance (applicants and recipients), and by those that create or save 15 or more jobs as a result of EDA's assistance.

Affected Public: State, local or Tribal Government and not-for-profit organizations.

Frequency: One time for preapplication and application, and on occasion for the Civil Rights Guidelines for post-approval and monitoring compliance.

Respondent's Obligation: Required to obtain or retain benefits.

OMB Desk Officer: David Rostker, (202) 395-7340.

Copies of the above information collection proposal can be obtained by calling or writing Diana Hynek, Departmental Paperwork Clearance Officer, (202) 482-0266, U.S. Department of Commerce, Room 6625, 14th and Constitution Avenue, NW., Washington, DC 20230, or via Internet at dhynek@doc.gov.

Written comments and recommendations for the proposed information collection should be sent within 30 days of publication of this notice to David Rostker, OMB Desk Officer, Room 10202, New Executive Office Building, Washington, DC 20503.

Dated: October 7, 2002.
Madeleine Clayton,
Management Analyst, Office of the Chief Information Officer.

[FR Doc. 02-25916 Filed 10-10-02; 8:45 am]

BILLING CODE 3510-34-P